DEPARTMENT OF TRANSPORTATION

Coast Guard

33 CFR Part 175

[USCG-2000-8589]

RIN 2115-AG04

Wearing of Personal Flotation Devices (PFDs) by Certain Children Aboard Recreational Vessels

AGENCY: Coast Guard, DOT.

ACTION: Final rule; notice of withdrawal.

SUMMARY: The Coast Guard is withdrawing the Final Rule on the wearing of PFDs by certain children aboard recreational vessels. It needs to reconsider the extent, if any, to which its rule should supersede States' rules that are compatible in most respects, but that are divergent in some. It hopes to save children's lives on the water and yet accord our system of federalism “full faith and credit.”

DATES: This final rule amending 33 CFR part 175 published on February 27, 2002 [67 FR 8881] is withdrawn as of March 27, 2002.

ADDRESSES: Comments and material received from the public, as well as documents mentioned in this preamble as being available in the docket, are part of docket USCG-2000-8589 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this final rule, call Carl Perry, Coast Guard, telephone: 202-267-0979. If you have questions on viewing the docket, call Dorothy Beard, Chief, Dockets, Department of Transportation, telephone 202-366-5149.

SUPPLEMENTARY INFORMATION:

Regulatory History

On May 1, 2001, we published in the Federal Register [66 FR 21717] a notice of proposed rulemaking (NPRM) entitled, “Wearing of Personal Flotation Devices (PFDs) by Certain Children Aboard Recreational Vessels”. We received 46 letters commenting on the proposed rule. No public hearing was requested and none was held.

The NPRM followed two published notices of request for comments, both titled “Recreational Boating Safety-Federal Requirements for Wearing Personal Flotation Devices,” under the docket number CGD 97-059. The first appeared in the Federal Register on September 25, 1997 [62 FR 50280]; the second, which extended the comment period, on March 20, 1998 [63 FR 13586]. The comments received in response to these notices were discussed in the NPRM.

After summarizing the comments received in response to the NPRM, we consulted the National Boating Safety Advisory Council (NBSAC) at its meeting in October 2001 regarding the results. NBSAC recommended that we proceed to publish a final rule, as proposed.

We published a final rule in the Federal Register on February 27, 2002 [67 FR 8881] establishing two Federal requirements. The first was for children under 13 aboard recreational vessels to wear PFDs, while the children are on deck and their vessels are underway. The second adopted any age requirement enacted or adopted by a State age requirement as the Federal age requirement, within the States. The rule did not formally address the various limits such as those related to length of vessel, by which some States qualified the applicability of their age requirements. We did not consider these differences between Federal and State requirements, according to vessel length, to be a problem. The rule would have been effective on March 29, 2002.

Withdrawal

After the rule was published, a State's Boating Law Administrator alerted us to potential enforcement problems resulting from these differences. At the same time, as we prepared guidance for our boarding officers on the fine points of enforcement, we observed the same potential enforcement problems with the differences. We decided that we needed to withdraw the Final Rule as it stood and fix it.

Therefore, we are withdrawing the final rule [67 FR 8881] and are revising some of its provisions. We are determining how to resolve the differences between Federal and State requirements and will notify the public and publish our decision in the Federal Register.

Again, we need to reconsider the extent, if any, to which our rule should supersede States' rules that are compatible in most respects but that are divergent in some, such as vessel length. We will do this in candor because we are dedicated to maintaining the public trust.

Meanwhile, we ask parents to ensure that children under 13 wear Coast Guard approved lifejackets while the children are on deck and their vessels are under way. Children's safety is the ultimate objective and the delay of the rule should not stand in the way of sound judgment.

Dated: March 20 2002.
Kenneth T. Venuto,
Rear Admiral, U.S. Coast Guard, Acting Assistant Commandant for Operations.

[FR Doc. 02-7236 Filed 3-26-02; 8:45 am]

BILLING CODE 4910-13-P